DEPARTMENT OF THE INTERIOR

Bureau of Reclamation

Klamath Hydroelectric Settlement Agreement, Including Secretarial Determination on Whether To Remove Four Dams on the Klamath River in California and Oregon

AGENCY: Department of the Interior.

ACTION: Notice; correction.

SUMMARY: The Department of the Interior (Department) through the Bureau of Reclamation published a notice of intent and notice of public scoping meetings for an Environmental Impact Statement/Environmental Impact Report (EIS/EIR) in the Federal Register on June 14, 2010. The notice contained an incorrect date for when the Department will accept scoping comments for this EIS/EIR.

FOR FURTHER INFORMATION CONTACT: Tanya Sommer, Bureau of Reclamation, 916-978-6153, tsommer@usbr.gov.

Correction

In the Federal Register of June 14, 2010, (75 FR 33634), in column 2, correct the DATES caption to read:

DATES: Written comments on the scope of the EIS/EIR and potential alternatives to be analyzed are requested by July 21, 2010. Oral comments will also be accepted during the public scoping meetings. Please see the SUPPLEMENTARY INFORMATION section for public scoping meeting dates and locations.

Dated: June 23, 2010.
Dennis Lynch,
Program Manager, Klamath Basin Secretarial Determination.

[FR Doc. 2010-16134 Filed 7-1-10; 8:45 am]

BILLING CODE 4310-MN-P